NUCLEAR REGULATORY COMMISSION

[Docket Nos. 50-275 and 50-323; NRC-2022-0132]

Pacific Gas and Electric Company; Diablo Canyon Nuclear Power Plant, Units 1 and 2; Post-Shutdown Decommissioning Activities Report

AGENCY: Nuclear Regulatory Commission.

ACTION: Public meeting and request for comment.

SUMMARY: On December 4, 2019, Pacific Gas and Electric Company (PG&E, the licensee) submitted to the U.S. Nuclear Regulatory Commission (NRC) letters enclosing the post-shutdown decommissioning activities report (PSDAR), the site-specific decommissioning cost estimate (SSDCE), and the irradiated fuel management plan (IFMP), for the Diablo Canyon Nuclear Power Plant, Units 1 and 2 (Diablo Canyon, Units 1 and 2). The PSDAR, including the SSDCE and IFMP, provide an overview of PG&E's planned activities, schedule, projected costs, and environmental impacts for the decommissioning of Diablo Canyon, Units 1 and 2. On February 21, 2020, the NRC solicited comments on these documents. Subsequently, PG&E submitted a notification of changes on October 19, 2021. The NRC planned to hold a public meeting in the vicinity of Diablo Canyon, Units 1 and 2, to discuss the PSDAR's content, including the SSDCE and IFMP, and receive comments but decided to reschedule the public meeting due to concerns with the coronavirus disease 2019 (COVID-19) public health emergency. The NRC has rescheduled the public meeting to discuss the PSDAR, including the SSDCE and IFMP, and receive comments.

DATES: The public meeting will be held on Thursday, July 21, 2022, from 6:00 p.m. until 9:00 p.m. Pacific Time (PT), at the San Luis Obispo County Government Building, located at 1055 Monterey Street, in San Luis Obispo, California. The public meeting is also accessible through an online webinar. Submit comments by October 19, 2022. Comments received after this date will be considered, if it is practical to do so, but the NRC is able to ensure consideration only for comments received on or before this date. See section III, “Request for Comment and Public Meeting,” of this document for additional information.

ADDRESSES: You may submit comments by any of the following methods; however, the NRC encourages electronic comment submission through the Federal rulemaking website:

• Federal rulemaking website: Go to https://www.regulations.gov and search for Docket ID NRC-2022-0132. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Samson S. Lee, Office of Nuclear Reactor Regulation, U.S. Nuclear Regulatory Commission, Washington, DC 20555-0001, telephone: 301-415-3168, email: Samson.Lee@nrc.gov.

SUPPLEMENTARY INFORMATION:

I. Obtaining Information and Submitting Comments

A. Obtaining Information

Please refer to Docket ID NRC-2022-0132 when contacting the NRC about the availability of information for this action. You may obtain publicly available information related to this action by any of the following methods:

• Federal Rulemaking Website: Go to https://www.regulations.gov and search for Docket ID NRC-2022-0132.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time, Monday through Friday, except Federal holidays.

B. Submitting Comments

The NRC encourages electronic comment submission through the Federal rulemaking website (https://www.regulations.gov). Please include Docket ID NRC-2022-0132 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

PG&E is the holder of Facility Operating License Nos. DPR-80 and DPR-82 for Diablo Canyon, Units 1 and 2, respectively. The license provides, among other things, that the facility is subject to all relevant rules, regulations, and orders of the NRC now or hereafter in effect. The facility consists of a pair of Westinghouse four loop pressurized water reactors located in San Luis Obispo County, California. By letter dated November 27, 2018, PG&E informed the NRC that it will permanently cease power operations at Diablo Canyon, Units 1 and 2, on November 2, 2024, and August 26, 2025, respectively.

Paragraph 50.82(a)(4)(i) of title 10 of the Code of Federal Regulations (10 CFR) states that a PSDAR must contain a description of the planned decommissioning activities along with a schedule for their accomplishment, a discussion that provides the reasons for concluding that the environmental impacts associated with site-specific decommissioning activities will be bounded by appropriate previously issued environmental impact statements, and an SSDCE, including the projected cost of managing irradiated fuel.

Accordingly, pursuant to 10 CFR 50.82(a)(4)(ii), the NRC noticed receipt of the Diablo Canyon, Units 1 and 2 PSDAR, including the SSDCE and IFMP, and made them available for public comment on February 21, 2020 (85 FR 10200). The public comment period closed on June 22, 2020. The purpose of the Federal Register notice (85 FR 10200; February 21, 2020) was to inform the public of a meeting on March 19, 2020, to discuss and accept comments on the PSDAR, including the SSDCE and IFMP. Due to the concerns of COVID-19, the NRC canceled the March 19, 2020, public meeting (85 FR 15505; March 18, 2020). On October 19, 2021, PG&E submitted a notification of changes to the PSDAR, including the SSDCE and IFMP.

III. Request for Comment and Public Meeting

The NRC is requesting public comments on the PSDAR, including the SSDCE and IFMP, for Diablo Canyon, Units 1 and 2. The NRC is planning to hold the PSDAR meeting and receive comments on Thursday, July 21, 2022, from 6:00 p.m. until 9:00 p.m. (PT), at the San Luis Obispo County Government Building, located at 1055 Monterey Street, in San Luis Obispo, California. Please contact Samson Lee no later than July 8, 2022, if accommodations or special equipment is needed to attend or to provide comments. Information regarding the public meeting, including webinar information, will be posted on the NRC's public meeting website at least 10 calendar days before the meeting. The NRC's public meeting website is located at https://www.nrc.gov/public-involve.html. The NRC requests that comments provided outside the Thursday, July 21, 2022, meeting be submitted as noted in section I, “Obtaining Information and Submitting Comments,” of this document in writing by October 19, 2022.

IV. Availability of Documents

The documents identified in the following table are available to interested persons through one or more of the following methods, as indicated.

Document description | ADAMS accession No.
Letter from PG&E to the NRC, “Certification of Permanent Cessation of Power Operations,” dated November 27, 2018 | ML18331A553.
Letter from PG&E to the NRC, “Diablo Canyon Power Plant, Units 1 and 2—Post-Shutdown Decommissioning Activities Report,” dated December 4, 2019 | ML19338F173.
Letter from PG&E to the NRC, “Diablo Canyon Power Plant, Units 1 and 2 Irradiated Fuel Management Plan,” dated December 4, 2019 | ML19338F260.
Letter from PG&E to the NRC, “Diablo Canyon Power Plant, Units 1 and 2—Site-Specific Decommissioning Cost Estimate,” dated December 4, 2019 (publicly available version) | ML19345D344 and ML19345D345.
Letter from PG&E to the NRC, “Notification of Changes to Post-Shutdown Decommissioning Activities Report, Site-Specific Decommissioning Cost Estimate, and Irradiated Fuel Management Plan for Diablo Canyon Power Plant, Units 1 and 2,” dated October 19, 2021 | ML21293A120.

Dated: June 17, 2022.
For the Nuclear Regulatory Commission.
Jennifer L. Dixon-Herrity,
Chief, Plant Licensing Branch IV, Division of Operating Reactor Licensing, Office of Nuclear Reactor Regulation.

[FR Doc. 2022-13406 Filed 6-22-22; 8:45 am]

BILLING CODE 7590-01-P